DEPARTMENT OF LABOR

Employment and Training Administration

[TA-W-83,188; TA-W-83,188a]

John Wiley and Sons, Inc.; Creative Services Group; Wiley Content Management Department and Information Technology Department; Hoboken, New Jersey; John Wiley And Sons, Inc.; Information Technology Department; Somerset, New Jersey; Amended Certification Regarding Eligibility To Apply for Worker Adjustment Assistance

In accordance with Section 223 of the Trade Act of 1974, as amended (“Act”), 19 U.S.C. 2273, the Department of Labor issued a Certification of Eligibility to Apply for Worker Adjustment Assistance on November 26, 2013, applicable to workers of John Wiley and Sons, Inc., Creative Services Group, Hoboken, New Jersey. The Department's notice of determination was published in the Federal Register on February 13, 2014 (79 FR 8736).

The Department reviewed the certification for workers of the subject firm. New information from the company revealed that worker separations in the Wiley Content Management Department and the Information Technology Department at the same location in Hoboken, New Jersey (TA-W-83,188) and in the Information Technology Department in Somerset, New Jersey (TA-W-83,188A) are attributable to the same acquisition of services from a foreign country that contributed importantly to worker separations in the Composition Services Group in Hoboken, New Jersey.

The intent of the Department's certification is to include all workers of the subject firm who were adversely affected by the firm's acquisition of services from a foreign country.

Based on these findings, the Department is amending this certification to include workers from Wiley Content Management Department and the Information Technology Department at the Hoboken, New Jersey (TA-W-83,188) location of the subject firm as well as workers from the Information Technology Department at the affiliated location in Somerset, New Jersey (TA-W-83,188A).

The amended notice applicable to TA-W-83,188 is hereby issued as follows:

“All workers of John Wiley and Sons, Inc., Creative Services Group, Wiley Content Management Department, and Information Technology Department, Hoboken, New Jersey (TA-W-83,188) and all workers of John Wiley and Sons, Inc., Information Technology Department, Somerset, New Jersey (TA-W-83,188A) who became totally or partially separated from employment on or after October 30, 2012 through November 26, 2015, and all workers in the group threatened with total or partial separation from employment on the date of certification through two years from the date of certification, are eligible to apply for adjustment assistance under Chapter 2 of Title II of the Trade Act of 1974, as amended.”

Signed in Washington, DC this 1st day of August, 2014.
Del Min Amy Chen,
Certifying Officer, Office of Trade Adjustment Assistance.

[FR Doc. 2014-19948 Filed 8-21-14; 8:45 am]

BILLING CODE 4510-FN-P